DEPARTMENT OF COMMERCE

National Oceanic and Atmospheric Administration

50 CFR Part 648

[I.D. 011204A]

RIN 0648-AN16

Magnuson-Stevens Fishery Conservation and Management Act Provisions; Fisheries of the Northeastern United States; Atlantic Sea Scallop Fishery; Amendment 10 to the Atlantic Sea Scallop Fishery Management Plan

AGENCY: National Marine Fisheries Service (NMFS), National Oceanic and Atmospheric Administration (NOAA), Commerce.

ACTION: Notice of availability of a fishery management plan amendment; request for comments.

SUMMARY: NMFS announces that the New England Fishery Management Council (Council) has submitted Amendment 10 to the Atlantic Sea Scallop Fishery Management Plan (FMP) (Amendment 10) incorporating the draft Final Supplemental Environmental Impact Statement (FSEIS), Regulatory Impact Review (RIR), and the Initial Regulatory Flexibility Analysis (IRFA), for Secretarial review and is requesting comments from the public. Amendment 10 would establish a long-term, comprehensive program to manage the Atlantic sea scallop fishery through an area rotation management program to maximize scallop yield. Amendment 10 evaluates and proposes measures to minimize the adverse effects of fishing on Essential Fish Habitat (EFH), in accordance with the Joint Stipulation and Order in the American Oceans Campaign et al. v Evans et al. (Civil Case Number 99-982 (GK)) (Joint Stipulation and Order). In addition to the area rotation program, Amendment 10 includes a suite of management measures intended to make the management program more effective, efficient, and flexible.

DATES: Comments must be received on or before March 15, 2004.

ADDRESSES: Comments on the FMP and other incorporated documents listed below should be sent to Patricia A. Kurkul, Regional Administrator, NMFS, Northeast Regional Office, One Blackburn Drive, Gloucester, MA 01930. Mark the outside of the envelope, “Comments on Atlantic Sea Scallop Amendment 10.” Comments may also be sent via facsimile (fax) to (978) 281-9135. Comments will not be accepted if submitted via e-mail or the Internet.

Copies of Amendment 10, the draft Final Supplemental Environmental Impact Statement (FSEIS), Regulatory Impact Review (RIR), and the Initial Regulatory Flexibility Analysis (IRFA) are available from Paul J. Howard, Executive Director, New England Fishery Management Council, 50 Water Street, Newburyport, MA 01950. These documents are also available online at http://www.nefmc.org.

FOR FURTHER INFORMATION CONTACT: Peter Christopher, Fishery Policy Analyst, 978-281-9288, fax 978-281-9135, e-mail peter.christopher@noaa.gov.

SUPPLEMENTARY INFORMATION: A notice of availability for the Draft Supplemental Environmental Impact Statement (DSEIS) for Amendment 10 was published in the Federal Register on April 18, 2003 (68 FR 19206). The public was given 90 days to comment on the DSEIS, in accordance with the EFH Settlement Agreement. After considering all comments on the DSEIS, the Council adopted the final measures to be included in Amendment 10 at its August 13-14, and September 16-17, 2003, meetings and voted to submit the Amendment 10 document, including the FSEIS, to NMFS.

Amendment 10 is intended to establish a long-term, comprehensive program to manage the sea scallop fishery through an area rotation management program to maximize scallop yield. Area rotation would close and re-open areas based on the condition and size of the scallop resource in discrete areas. Area-based management has been used in the FMP since 1998, with controlled access to the Georges Bank and southern New England groundfish closed areas and the Hudson Canyon and Virginia Beach scallop closed areas. Amendment 10 evaluates and includes measures to minimize the adverse effects of fishing on EFH, in accordance with the Joint Stipulation and Order. Amendment 10 also proposes the following management measures: Initial area rotation closed area, a controlled access area; area specific days-at-sea (DAS) for the area rotation program; DAS allocations for the 2004 and 2005 fishing years; an increase in the minimum ring size for scallop dredge gear; an increase in the minimum twine top mesh size for scallop dredges; a new possession limit restriction for limited access scallop vessels fishing outside of DAS; set-asides of total allowable catch (TAC) and DAS to pay for scallop resource and fishery-related research; set-asides of TAC and DAS to help defray the cost of at-sea observers; a new biennial framework process; and a process to address interactions between the scallop fishery and species protected under the Endangered Species Act.

Public comments are being solicited on Amendment 10 and its incorporated documents through the end of the comment period stated in this notice of availability. A proposed rule that would implement Amendment 10 may be published in the Federal Register for public comment, following NMFS' evaluation of the proposed rule under the procedures of the Magnuson-Stevens Fishery Conservation and Management Act. Public comments on the proposed rule must be received by the end of the comment period provided in this notice of ability of Amendment 10 to be considered in the approval/disapproval decision on the amendment. All comments received by March 15, 2004, whether specifically directed to Amendment 10 or the proposed rule, will be considered in the approval/disapproval decision on Amendment 10. Comments received after that date will not be considered in the decision to approve or disapprove Amendment 10.

Authority: 16 U.S.C. 1801 et seq.

Dated: January 13, 2004.
Bruce C. Morehead,
Acting Director, Office of Sustainable Fisheries, National Marine Fisheries Office.

[FR Doc. 04-1012 Filed 1-15-04; 8:45 am]

BILLING CODE 3510-22-S